INTERNATIONAL TRADE COMMISSION

[Investigation No. 731-TA-1046 (Final)]

Tetrahydrofurfuryl Alcohol (THFA) From China

AGENCY: International Trade Commission.

ACTION: Revised schedule for the subject investigation.

EFFECTIVE DATE: March 15, 2004.

FOR FURTHER INFORMATION CONTACT: Jai Motwane (202) 205-3176, Office of Investigations, U.S. International Trade Commission, 500 E Street SW., Washington, DC 20436. Hearing-impaired persons can obtain information on this matter by contacting the Commission's TDD terminal on (202) 205-1810. Persons with mobility impairments who will need special assistance in gaining access to the Commission should contact the Office of the Secretary at (202) 205-2000. General information concerning the Commission may also be obtained by accessing its Internet server (http://www.usitc.gov). The public record for this investigation may be viewed on the Commission's electronic docket (EDIS) at http://edis.usitc.gov.

SUPPLEMENTARY INFORMATION: On February 3, 2004, the Commission established a schedule for the conduct of the final phase of the subject investigation (69 FR 6005, February 9, 2004). Subsequently, the Department of Commerce extended the date for its final determination in the investigation from April 9, 2004 to June 10, 2004 (69 FR 12127, March 15, 2004). The Commission, therefore, is revising its schedule to conform with Commerce's new schedule.

The Commission's new schedule for the investigation is as follows: requests to appear at the hearing must be filed with the Secretary to the Commission not later than June 7, 2004; the prehearing conference will be held at the U.S. International Trade Commission Building at 9:30 a.m. on June 9, 2004; the prehearing staff report will be placed in the nonpublic record on May 28, 2004; the deadline for filing prehearing briefs is June 7, 2004; the hearing will be held at the U.S. International Trade Commission Building at 9:30 a.m. on June 14, 2004; the deadline for filing posthearing briefs is June 21, 2004; the Commission will make its final release of information on July 8, 2004; and final party comments are due on July 12, 2004.

For further information concerning this investigation see the Commission's notice cited above and the Commission's Rules of Practice and Procedure, part 201, subparts A through E (19 CFR part 201), and part 207, subparts A and C (19 CFR part 207).

Authority: This investigation is being conducted under authority of title VII of the Tariff Act of 1930; this notice is published pursuant to section 207.21 of the Commission's rules.

By order of the Commission.
Issued: March 19, 2004.
Marilyn R. Abbott,
Secretary to the Commission.

[FR Doc. 04-6692 Filed 3-24-04; 8:45 am]

BILLING CODE 7020-02-P